DEPARTMENT OF HEALTH AND HUMAN SERVICES

Centers for Disease Control and Prevention

[Program Announcement 00122]

Prevention and Control Micro-Nutrient Malnutrition; Notice of Availability of Funds

A. Purpose

The Centers for Disease Control and Prevention (CDC), Division of Nutrition and Physical Activity (DNPA) announces the availability of fiscal year (FY) 2000 funds for a sole source cooperative agreement program with the World Health Organization (WHO), Geneva, Switzerland, for the prevention and control of micro-nutrient malnutrition.

B. Eligible Applicant

Single Source

Assistance will be provided only to the World Health Organization (WHO) in Geneva, Switzerland. No other applications are solicited.

WHO is the most appropriate and qualified agency to conduct the activities under this cooperative agreement because; WHO (a) has demonstrated the necessary expertise and experience in technical, policy, and program issues relating to micro-nutrient malnutrition; (b) maintains relationships with officials of ministries of health and other policy makers throughout the region; and (c) serves as the source of international standards for nutritional status, including micro-nutrient status.

1. WHO supports micro-nutrient malnutrition intervention programs throughout the Eastern Mediterranean region. In the past 10 years WHO through WHO/EMRO has made progress in working towards the prevention of iron deficiency anemia (IDA) and the elimination of iodine deficiency disorders (IDD). WHO through WHO/EMRO identified flour fortification with iron and folate as the best preventive and most sustainable strategy for IDA, as bread and other wheat-flour products are widely consumed in the countries of region. Through regional workshops, WHO through WHO/ERMO has helped countries write action plans for flour fortification with iron and folate and at present six countries have either begun or are in the process of beginning flour fortification. Additionally, WHO through WHO/EMRO supports country-based salt iodization programs throughout the region which has had a significant impact on reducing the burden of iodine deficiency disorders.

2. The proposed program is strongly supportive of, and directly related to, the achievement of WHO through WHO/EMRO and the CDC/Micro-nutrient Malnutrition Program objectives for the prevention and control of micro-nutrient malnutrition.

3. WHO is the only organization within the Eastern Mediterranean Region that has demonstrated the experience and maintains relationships with officials of ministries of health throughout the region in order to coordinate micro-nutrient malnutrition programs.

C. Availability of Funds

Approximately $250,000 is available in FY 2000 to fund one award. It is expected that the award will begin on or about September 30, 2000 will be made for a 12-month budget period within a project period of up to two years.

D. Where To Obtain Additional Information

Business management technical assistance may be obtained from: Robert Hancock, Grants Management Specialist, Grants Management Branch, Procurement and Grants Office, Centers for Disease Control and Prevention, Room 3000, 2920 Brandywine Road, Atlanta, GA 30341-4146, Telephone number (770)488-2746, Email address: RNH2@cdc.gov.

Program technical assistance may be obtained from: Ibrahim Parvanta, Division of Nutrition and Physical Activity, National Center for Chronic Disease Prevention and Health Promotion, Centers for Disease Control and Prevention, 4770 Buford Highway, Atlanta, GA 30341, Telephone Number (770) 488-5865, Email address: ixp1@cdc.gov.

Dated: June 13, 2000.
John L. Williams,
Director, Procurement and Grants Office, Center for Disease Control and Prevention (CDC).

[FR Doc. 00-15461 Filed 6-19-00; 8:45 am]

BILLING CODE 4163-18-P